DEPARTMENT OF DEFENSE

Department of the Army

Western Hemisphere Institute for Security Cooperation Board of Visitors; Meeting

AGENCY: Department of the Army, DoD.

ACTION: Notice of open meeting.

SUMMARY: This notice replaces the original notice published in the Federal Register on June 10, 2011 (76 FR 34066) and sets forth the schedule and summary agenda for the annual meeting of the Board of Visitors (BoV) for the Western Hemisphere Institute for Security Cooperation (WHINSEC). Notice of this meeting is required under the Federal Advisory Committee Act (Pub. L. 92-463). The Board's charter was renewed on March 18, 2010 in compliance with the requirements set forth in Title 10 U.S.C. 2166.

Date: Monday, September 26th, 2011.

Time: 4 to 6 p.m.

Location: Double Tree Hotel Conference Room, 5351 Sidney Simons Blvd, Columbus, Georgia.

Proposed Agenda: Update briefings from the Office of the Secretary of Defense (Policy); Department of State; US Northern Command and US Southern Command meeting on December 3rd, 2010, as well as receive other information appropriate to its interests.

Date: Tuesday, September 27th, 2011.

Time: 8 a.m. to 4 p.m.

Location: WHINSEC, 7161 Richardson Circle, Modular 2D, Fort Benning, Georgia 31905.

Proposed Agenda: Topics will include an update briefing from the WHINSEC Commandant; WHINSEC Strategic Communications Plan; BoV engagement and subcommittees; WHINSEC budgeting and personnel challenges; WHINSEC curriculum and feedback

FOR FURTHER INFORMATION CONTACT: WHINSEC Board of Visitors Secretariat at (703) 614-8721.

SUPPLEMENTARY INFORMATION: The meeting is open to the public. Pursuant to the Federal Advisory Committee Act of 1972 and 41 CFR 102-3.140(c), members of the public or interested groups may submit written statements to the advisory committee for consideration by the committee members. Written statements should be no longer than two type-written pages and sent via fax to (703) 614-8920 by 5 p.m. EST on Monday, September 19th, 2011, for consideration at this meeting. In addition, public comments by individuals and organizations may be made from 8:30 to 8:45 a.m. during the meeting on September 27th. Public comments will be limited to three minutes each. Anyone desiring to make an oral statement must register by sending a fax to (703) 614-8920 with his/her name, phone number, email address, and the full text of his/her comments (no longer than two typewritten pages) by 5 p.m. EST on Monday, September 19th, 2011. The first five requestors will be notified by 5 p.m. EST on Friday, September 23rd, 2011, of their time to address the Board during the public comment forum. All other comments will be retained for the record. Public seating is limited and will be available on a first-come, first-served basis.

Brenda S. Bowen,
Army Federal Register Liaison Officer.

[FR Doc. 2011-16708 Filed 7-1-11; 8:45 am]

BILLING CODE 3710-08-P